DEPARTMENT OF VETERANS AFFAIRS

[OMB Control No. 2900-0061]

Agency Information Collection Activity: Request and Authorization for Supplies and Direct Reimbursement (Chapter 31—Veteran Readiness and Employment)

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before April 15, 2024.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0061” in any correspondence. During the comment period, comments may be viewed online through FDMS.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0061” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 501(a) and 38 U.S.C. 3104(a)(7).

Title: Request and Authorization for Supplies and Direct Reimbursement (Chapter 31—Veteran Readiness and Employment).

OMB Control Number: 2900-0061.

Type of Review: Revision of a currently approved collection.

Abstract: VA Form 28-1905m, Request and Authorization for Supplies and Direct Reimbursement (Chapter 31—Veteran Readiness and Employment) serves as a request for supplies or equipment or apply for direct reimbursement for purchases of supplies and equipment as part of a rehabilitation program under 38 U.S.C. chapter 31. The training facility the Veteran attends, or the employer for whom the Veteran works, may also need to complete the form when the facility or employer requires specific types of supplies or equipment. Veterans may access the VAF 28-1905m from VA.gov or requesting the form from their assigned Vocational Rehabilitation Counselor (VRC). Veterans may return the completed VAF 28-1905m through centralized mail, via VR&E's Electronic Virtual Assistant (e-VA), in-person, or emailing the form to their assigned VRC. There are no other invitations or other communications sent to the respondent associated with the information collection. The VR&E staff subsequently uses the information on this form to approve the purchase of appropriate supplies and equipment or direct reimbursement for purchases of supplies and equipment for Veterans as part of a rehabilitation program. VAF 28-1905m allows Veterans in the VR&E program to receive supplies and equipment or be directly reimbursed for purchases of supplies and equipment that are necessary for the successful completion of their rehabilitation program.

Affected Public: Individuals and households.

Estimated Annual Burden: 15,312 hours.

Estimated Average Burden per Respondent: 30 minutes.

Frequency of Response: One time.

Estimated Number of Respondents: 30,623 per year.

By direction of the Secretary.
Dorothy Glasgow,
VA PRA Clearance Officer, (Alt), Office of Enterprise and Integration/Data Governance Analytics, Department of Veterans Affairs.

[FR Doc. 2024-03138 Filed 2-14-24; 8:45 am]

BILLING CODE 8320-01-P